DEPARTMENT OF JUSTICE

Antitrust Division

Notice Pursuant to the National Cooperative Research and Production Act of 1993—Accreditation Association for Ambulatory Health Care, Inc.

Notice is hereby given that, on August 26, 2004, pursuant to Section 6(a) of the National Cooperative Research and Production Act of 1993, 15 U.S.C. 4301 et seq. (“the Act”), Accreditation Association for Ambulatory Health Care, Inc. (AAAHC) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is Accreditation Association for Ambulatory Health Care, Inc., (“AAAHC”) Wilmette, IL 60091. The nature and scope of AAAHC's standard development activities are: AAAHC develops and maintains standards of encourage the voluntary attainment of high-quality care in organizations providing health care services in ambulatory settings. The standards describe characteristics that AAAHC determines as indicative of an accreditable organization. The accreditation process involves self-assessment by a health care organizations, as well as a thorough review by AAAHC's expert surveyors to determine compliance with AAAHC standards. AAAHC updates its standards on a year basis, with input from many health care organizations and the public. The standards and survey procedures are contained in the AAAHC Accreditation Handbook for Ambulatory Health Care.

Dorothy B. Fountain,
Deputy Director of Operations, Antitrust Division.

[FR Doc. 04-22296 Filed 10-4-04; 8:45 am]

BILLING CODE 4410-11-M